ENVIRONMENTAL PROTECTION AGENCY

[EPA-HQ-OAR-2017-0639; FRL—9980-77-OEI]

Information Collection Request Submitted to OMB for Review and Approval; Comment Request; Production, Import, Export, Destruction, Transhipment, and Exempted Uses of Ozone-Depleting Substances (Renewal)

AGENCY: Environmental Protection Agency (EPA).

ACTION: Notice.

SUMMARY: The Environmental Protection Agency (EPA) has submitted an information collection request (ICR), Production, Import, Export, Destruction, Transhipment, and Exempted Uses of Ozone-Depleting Substances (EPA ICR No. 1432.34, OMB Control No. 2060-0170), to the Office of Management and Budget (OMB) for review and approval in accordance with the Paperwork Reduction Act. This is a proposed revision of the ICR, which is currently approved through October 2018. Public comments were previously requested via the Federal Register on January 19, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before August 17, 2018.

ADDRESSES: Submit your comments, referencing Docket ID Number EPA-HW-OAR-2017-0639, to EPA online using www.regulations.gov or by mail to: EPA Docket Center, Environmental Protection Agency, Mail Code 28221T, 1200 Pennsylvania Ave. NW, Washington, DC 20460, and OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Katherine Sleasman, Stratospheric Protection Division, (6205T), Environmental Protection Agency, 1200 Pennsylvania Ave. NW, Washington, DC 20460; telephone number: (202) 564-7716; fax number: (202) 343-2338; email address: sleasman.katherine@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: EPA is seeking to combine multiple ICRs to establish one ICR for all recordkeeping and reporting related to the production, import, export, transformation, destruction, transhipment, and exempted uses of all ozone-depleting substances (ODS). As part of this consolidation, the ICR is also being updated to include the option of electronic reporting and improvements to the electronic forms under Title VI of the Clean Air Act (CAA). The ICRs being consolidated into the existing ICR for Class I ODS (ICR No. 1432.33; OMB Control No. 2060-0170) are the ICRs for Class II ODS (HCFC Allowance System—EPA ICR Number 2014.08; OMB Control Number 2060-0498) and Methyl Bromide Critical Use Exemptions (Protection of Stratospheric Ozone: Request for Applications from Critical use Exemption for the Phase-out of Methyl Bromide—EPA ICR Number 2031.09; OMB Control Number 2060-0482).

This ICR covers the requirements under the Montreal Protocol on Substances that Deplete the Ozone Layer (Montreal Protocol) and Title VI of the CAA that establish limits on total U.S. production, import, and export of class I and class II controlled ODS (or controlled substances). Production and import of class I controlled substances (chlorofluorocarbons and others) was phased out in the United States with exemptions for essential uses, critical uses of methyl bromide, quarantine and pre-shipment uses of methyl bromide, previously used material, and material that will be transformed or destroyed. There are also limits and reduction schedules leading to the eventual phaseout of class II controlled substances, with limited exemptions for previously used material, and material that will be transformed, destroyed, or exported to developing countries. To implement the CAA provisions and meet commitments under the Montreal Protocol, the ODS phaseout regulations establish control measures for individual companies. EPA monitors company compliance through the recordkeeping and reporting requirements established in the regulations at 40 CFR part 82, subpart A. As part of this ICR renewal, EPA is also removing reporting elements that are no longer needed, revising others to address changes to a new electronic ODS Tracking System, and consolidating forms.

Forms: Class I Producer Quarterly Report, Class II Producer Quarterly Report, Methyl Bromide Producer Quarterly Report, Class I Importer Quarterly Report, Class II Importer Quarterly Report, Methyl bromide Importer Quarterly Report, Class I Exporter Annual Report, Class II Exporter Quarterly Report, Methyl Bromide Exporter Quarterly Report, Second-Party Destruction Annual Report, Second-Party Transformation Annual Report, Class I Laboratory Supplier, Methyl Bromide Pre-2005 Stocks Annual Report, Distributor of QPS Methyl Bromide Quarterly Report, Methyl Bromide Trades Report, Methyl Bromide Sales of Critical Use Annual Report, Class II Request for Additional Consumption Allowances, and Class II Trades Report.

Respondents/affected entities: Chemical producers, importers, and exporters (chlorofluorocarbons and hydrochlorofluorocarbons); research and development (laboratories); and methyl bromide producers, importers, exporters, distributors, and applicators.

Respondent's obligation to respond: Mandatory—Section 603(b) of the Clean Air Act.

Estimated number of respondents: 2,929 (total).

Frequency of response: Quarterly, annually, and as needed.

Total estimated burden: 3,763 hours (per year). Burden is defined at 5 CFR 1320.03(b).

Total estimated cost: $442,926 (per year), which includes $13,082 annualized capital or operation & maintenance costs.

Changes in the Estimates: There is a decrease of 1,726 hours in the total estimated respondent burden compared with the three ICRs currently approved by OMB. This decrease is a result of efficiencies from transitioning from paper to electronic reporting. While the one-time burden increase is associated with the transition to electronic reporting, overall burden will decrease from efficiencies associated with electronic reporting. Additionally, EPA estimates fewer companies reporting on imports and exports of ODS based on 2015 reporting activity.

Courtney Kerwin,
Director, Regulatory Support Division.

[FR Doc. 2018-15311 Filed 7-17-18; 8:45 am]

BILLING CODE 6560-50-P